DEPARTMENT OF TRANSPORTATION

Federal Aviation Administration

14 CFR Part 71

[Docket No. FAA-2025-2037; Airspace Docket No. 25-AEA-14]

RIN 2120-AA66

Amendment of Class D Airspace and Establishment of Class E2 Airspace Over Hampton, VA

AGENCY: Federal Aviation Administration (FAA), DOT.

ACTION: Final rule.

SUMMARY: This action amends Class D airspace and establishes Class E airspace extending upward from the surface above Langley Air Force Base (AFB), Hampton, VA, as the air traffic control tower will shift to part-time operations. This action also updates the geographic coordinates of the airport. Controlled airspace is necessary for the safety and management of instrument flight rules (IFR) operations in the area.

DATES: Effective 0901 UTC, January 22, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours a day, 365 days a year. An electronic copy of this document may also be downloaded from www.federalregister.gov.

FAA Order JO 7400.11K, Airspace Designations and Reporting Points, as well as subsequent amendments, can be viewed online at www.faa.gov/air_traffic/publications/. For further information, you may also contact the Rules and Regulations Group, Policy Directorate, Federal Aviation Administration, 600 Independence Avenue SW, Washington, DC 20597; Telephone: (202) 267-8783.

FOR FURTHER INFORMATION CONTACT: Marc Ellerbee, Operations Support Group, Eastern Service Center, Federal Aviation Administration, 1701 Columbia Avenue, College Park, GA 30337; Telephone: (404) 305-5589.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and E airspace in Hampton, VA.

History

The FAA published an NPRM for Docket No. FAA-2025-2037 in the Federal Register (90 FR 35251; July 25, 2025), proposing to amend Class D airspace and establish Class E airspace extending upward from the surface above Langley Air Force Base (AFB), Hampton, VA. Interested parties were invited to participate in this rulemaking effort by submitting written comments on the proposal to the FAA. Three comments were received, none of which provided substantive feedback on the proposal. One comment appeared to be responding to a different rulemaking by a different agency, unrelated to the instant proposal.

Differences From the NPRM

Subsequent to the publication of the NPRM, the FAA discovered that the legal descriptions for both the Class D and Class E2 airspace areas for Langley AFB incorrectly identified the location as “Hampton Roads, VA” but should instead read, “Hampton, VA.” Accordingly, this final rule incorporates corrective revisions to the location information within the text headers for the affected airspace, bringing them into compliance with FAA Order JO 7400.2. Because this is an administrative change that imposes no additional requirements on users of the airspace, the FAA has determined that good cause exists to proceed with this action without recirculating the NPRM for public comment.

Incorporation by Reference

Class D and E airspace designations are published in paragraphs 5000 and 6002 of FAA Order JO 7400.11, Airspace Designations and Reporting Points, which is incorporated by reference in 14 CFR 71.1 on an annual basis. This document amends the latest version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by modifying Class D airspace for Langley AFB, Hampton, VA, as the air traffic control tower will no longer be full-time. During the periods when the tower is not in operation, Class E airspace will be activated. This action also updates the geographic coordinates of the airport. Lastly, this action also establishes Class E surface airspace over Langley AFB, Hampton, VA, at the request of the Department of the Air Force. Controlled airspace is necessary for the safety and management of instrument flight rules (IFR) operations in the area.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1G, “FAA National Environmental Policy Act Implementing Procedures” paragraph B-2.5(a). This airspace action is not expected to cause any potentially significant environmental impacts, and no extraordinary circumstances exist that warrant the preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 5000 Class D Airspace.

* * * * *

AEA VA D Hampton, VA [Amended]

Langley AFB, Hampton, VA

(Lat. 37°04′58″ N, long. 76°21′38″ W)

That airspace extending upward from the surface to and including 2,500 feet MSL within a 4.4-mile radius of Langley AFB. This Class D airspace area is effective during the specific dates and times established in advance by a Notice to Airmen. The effective date and time will thereafter be continuously published in the Chart Supplement.

* * * * *

Paragraph 6002 Class E Airspace Areas Designated as Surface Areas.

* * * * *

AEA VA E2 Hampton, VA [New]

Langley AFB, VA

(Lat. 37°04′58″ N, long. 76°21′38″ W)

That airspace extending upward from the surface to and including 2,500 feet MSL within a 4.4-mile radius of Langley AFB. This Class E airspace area is effective during the specific dates and times established in advance by a Notice to Airmen. The effective date and time will thereafter be continuously published in the Chart Supplement.

* * * * *

Issued in College Park, Georgia, on September 22, 2025.
Patrick Young,
Manager, Airspace & Procedures Team North, Eastern Service Center, Air Traffic Organization.

[FR Doc. 2025-18762 Filed 9-25-25; 8:45 am]

BILLING CODE 4910-13-P